DEPARTMENT OF DEFENSE

Defense Acquisition Regulations System

[Docket Number DARS-2023-0027; OMB Control Number 0704-0332]

Information Collection Requirement; DoD Pilot Mentor-Protege Program

AGENCY: Defense Acquisition Regulations System, Department of Defense (DoD).

ACTION: Notice.

SUMMARY: The Defense Acquisition Regulations System has submitted to OMB for clearance the following proposal for collection of information under the provisions of the Paperwork Reduction Act.

DATES: Consideration will be given to all comments received by October 30, 2023.

ADDRESSES: Written comments and recommendations for the proposed information collection should be sent within 30 days of publication of this notice to https://www.reginfo.gov/public/do/PRAMain. Find this particular information collection by selecting “Currently under 30-day Review—Open for Public Comments” or by using the search function.

You may also submit comments, identified by docket number and title, by the following method: Federal eRulemaking Portal: https://www.regulations.gov. Follow the instructions for submitting comments.

FOR FURTHER INFORMATION CONTACT: Angela Duncan, 571-372-7574, or whs.mc-alex.esd.mbx.dd-dod-information-collections@mail.mil.

SUPPLEMENTARY INFORMATION:

Title and OMB Number: Defense Federal Acquisition Regulation Supplement (DFARS) Appendix I; OMB Control Number 0704-0332.

Type of Request: Extension of a currently approved collection.

Affected Public: Businesses or other for-profit and not-for-profit institutions.

Respondent's Obligation: Required to obtain or retain benefits.

Frequency: On Occasion

Number of Respondents: 105.

Responses per Respondent: 2, approximately.

Annual Responses: 212.

Average Burden per Response: 2.41 hours, approximately.

Annual Burden Hours: 512.

Needs and Uses: Section 831 of the National Defense Authorization Act (NDAA) for Fiscal Year (FY) 1991 (Pub. L. 101-510, 10 U.S.C. 2302 Note, redesignated as 10 U.S.C. 4902) required DoD to establish the DoD Pilot Mentor-Protege Program (the “Program”). Congress requires DoD to collect certain information from program participants in section 861, paragraph (b)(2), of Public Law 114-92. Thus, the need for this information collection is to comply with existing laws. DoD has incorporated these information collection requirements into the DFARS in section I-112 of Appendix I. Program participants agree to comply with these information collection requirements when they execute their mentor-protege agreements, receiving the program's benefits in consideration.

This information is necessary to ensure that participants are fulfilling their obligations under the mentor-protege agreements and furthering the purpose of the Mentor-Protege Program as required by section 18(d)(7) of the Small Business Act (15 U.S.C. 637(d)(7). In accordance with 10 U.S.C. 4902, DoD uses the information to decide whether to approve continuation of the agreement. In addition, the information is necessary for program managers to direct developmental assistance to the most appropriate small business concerns and to ensure the program meets the Congressionally-mandated goal of enhancing the defense industrial base.

DoD Clearance Officer: Ms. Angela Duncan. Requests for copies of the information collection proposal should be sent to Ms. Duncan at whs.mc-alex.esd.mbx.dd-dod-information-collections@mail.mil.

Jennifer D. Johnson,
Editor/Publisher, Defense Acquisition Regulations System.

[FR Doc. 2023-21240 Filed 9-27-23; 8:45 am]

BILLING CODE 5001-06-P